OFFICE OF THE UNITED STATES TRADE REPRESENTATIVE

[Docket Number USTR-2017-0020]

Additional Information About Participating in the Process Concerning the Administration's Action Following a Determination of Import Injury With Regard to Certain Crystalline Silicon Photovoltaic Cells

AGENCY: Office of the United States Trade Representative.

ACTION: Additional information about participation; request for comments and notice of public hearing.

SUMMARY: In a Federal Register notice dated October 25, 2017 (82 FR 49469), the Office of the United States Trade Representative (USTR), on behalf of the Trade Policy Staff Committee (TPSC), announced a process to allow interested parties to submit views and evidence on the appropriateness of safeguard measures recommended by the United States International Trade Commission (ITC) concerning certain the import of crystalline silicon photovoltaic (CSPV) cells. This notice provides additional information on the TPSC process.

DATES: November 20, 2017 at midnight EST: Deadline for submission of written comments and requests to testify at the public hearing.

November 29, 2017 at midnight EST: Deadline for submission of written responses to the initial round of comments.

December 6, 2017 at 9:30 a.m. EST: The TPSC will hold a public hearing in Rooms 1 and 2, 1724 F Street NW., Washington DC.

ADDRESSES: USTR strongly prefers electronic submissions made through the Federal eRulemaking Portal: http://www.regulations.gov. Follow the instructions for submitting comments in section III of the Federal Register notice of October 25, 2017 (82 FR 49469). The docket number is USTR-2017-0020. For alternatives to on-line submissions, please contact Yvonne Jamison, Trade Policy Staff Committee at (202) 395-9666.

FOR FURTHER INFORMATION CONTACT: Victor Mroczka, Office of WTO and Multilateral Affairs, at Victor_S_Mroczka@ustr.eop.gov or (202) 395-9450, or Dax Terrill, Office of the General Counsel, at Dax.Terrill@ustr.eop.gov or (202) 395-4739.

SUPPLEMENTARY INFORMATION: In response to inquiries from interested parties, USTR is providing the following clarifying information about the procedures for participation in the TPSC process. Please review the Federal Register notice of October 25, 2017 (82 FR 49469) for more complete information. The clarifications are:

• You should include a summary of no more than two pages that identifies the key points with your written comment.

• The deadline to submit both written comments and requests to testify at the hearing is November 20, 2017 at midnight EST. A request to testify must include your comments.

• The TPSC will not accept written testimony at the hearing. You must include any materials you intend to use during your testimony with the written comments you submitted.

Edward Gresser,
Chair of the Trade Policy Staff Committee, Office of the United States Trade Representative.

[FR Doc. 2017-24596 Filed 11-13-17; 8:45 am]

BILLING CODE 3290-F8-P